DEPARTMENT OF ENERGY

Federal Energy Regulatory Commission

[Project No. 2880-015]

Notice of Application Tendered for Filing With the Commission and Soliciting Additional Study Requests and Establishing Procedural Schedule for Licensing and Deadline for Submission of Final Amendments: Cherokee Falls Hydroelectric Project, LLC

Take notice that the following hydroelectric application has been filed with the Commission and is available for public inspection.

a. Type of Application: New License.

b. Project No.: 2880-015.

c. Date Filed: July 31, 2019.

d. Applicant: Cherokee Falls Hydroelectric Project, LLC.

e. Name of Project: Cherokee Falls Hydroelectric Project (Cherokee Falls Project).

f. Location: The existing project is located the Broad River, in Cherokee County, South Carolina. The project does not affect federal lands.

g. Filed Pursuant to: Federal Power Act, 16 U.S.C. 791(a)-825(r).

h. Applicant Contact: Beth E. Harris, Southwest Regional Engineer, Enel Green Power North America, Inc., 11 Anderson Street, Piedmont, SC 29673; Telephone (864) 846-0042 ext. 100; Beth.Harris@Enel.com.

i. FERC Contact: Michael Spencer at (202) 502-6093, or at michael.spencer@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 30, 2019.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2280-015.

m. This application is not ready for environmental analysis at this time.

n. Project Description: The Cherokee Falls Project consists of: (1) A 1,819-foot-long granite masonry dam with a 1,701-foot-long spillway and 4-foot-high flashboards; (2) a reservoir with a surface area of 83 acres and a storage capacity of 140 acre-feet; (3) a trash rack intake; (4) a 130-foot-long powerhouse containing one generating unit with a capacity of 4,140 kilowatts and an annual generation of 9,354.9 megawatt-hours; (5) a 150-foot-long tailrace; (6) 93-foot-long generator leads to three 500-kilovolt transformers and (7) a 200-foot-long transmission line to a point of interconnection with the grid.

The Project is operated in a run-of-river mode with a continuous year round minimum flow of 65 cubic feet per second (cfs) in the bypassed reach. Project operation starts when inflows exceed 665 cfs, the sum of the minimum hydraulic capacity of the turbine (600 cfs) and the minimum flow. All flows greater than 3,165 cfs, which is the sum of the maximum hydraulic capacity of the turbine (3,100 cfs) and the minimum flow, are passed over the spillway.

o. A copy of the application is available for review at the Commission in the Public Reference Room or may be viewed on the Commission's website at http://www.ferc.gov, using the eLibrary link. Enter the docket number, excluding the last three digits in the docket number field, to access the document. For assistance, contact FERC Online Support. A copy is also available for inspection and reproduction at the address in paragraph h.

You may also register online at http://www.ferc.gov/docs-filing/esubscription.asp to be notified via email of new filings and issuances related to this or other pending projects. For assistance, contact FERC Online Support.

p. Procedural Schedule and final amendments: The application will be processed according to the following preliminary Hydro Licensing Schedule. Revisions to the schedule will be made as appropriate.

Issue Deficiency Letter (if necessary)—October 2019

Issue Acceptance Letter—November 2019

Issue Scoping Document—December 2019

Request Additional information (if necessary)—February 2020

Notice of Ready for Environmental Analysis—May 2020

Filing of recommendations, preliminary terms and conditions, and fishway prescriptions—July 2020

Commission issues EA—October 2020

Comments on EA—November 2020

Final amendments to the application must be filed with the Commission no later than 30 days from the issuance date of the notice of ready for environmental analysis.

Dated: August 7, 2019.
Kimberly D. Bose,
Secretary.

[FR Doc. 2019-17252 Filed 8-12-19; 8:45 am]

BILLING CODE 6717-01-P